DEPARTMENT OF HEALTH AND HUMAN SERVICES

White House Commission on Complementary and Alternative Medicine Policy; Notice of Meeting

Pursuant to Section 10(d) of the Federal Advisory Committee Act, as amended (5 U.S.C. Appendix 2), notice is given of a meeting of the White House Commission on Complementary and Alternative Medicine Policy. The purpose of the meeting is to convene the Commission for a public hearing on coordinated Research and Development activities relating to complementary and alternative medicine practices and products, and to receive public testimony from individuals and organizations interested in the subject of federal policy regarding complementary and alternative medicine. Comments received at the meeting may be used by the Commission to prepare the Report to the President as required by the Executive Order.

Comments should focus on Coordinated Research and Development Activities To Increase Knowledge of Complementary and Alternative Medicine Practices and Interventions. Issues to be discussed include the following: Research Priorities and Public Input; Federal, Private Sector, and Not-for-Profit Sector Support for CAM Research; Facilitating CAM Research and Regulatory Challenges; Practice-based Research and Outcomes Research. Discussion also may focus on the following questions:

(1) What can be done to expand the current research environment so that practices and interventions that lie outside conventional science are adequately and appropriately addressed?

(2) What types of incentives are needed to stimulate the research of CAM practices and interventions by the public and private sectors?

(3) How can we more effectively integrate the CAM and conventional research communities to stimulate and coordinate research?

Some Commission members may participate by telephone conference. The meeting is open to the public and opportunities for oral statements by the public will be provided on October 5, from about 1:15 p.m.-2:15 p.m.; and on October 6, from about 2:40 p.m.-3:40 p.m. (approximate times).

Name of Committee: White House Commission on Complementary and Alternative Medicine Policy.

Date: October 5-6, 2000.

Time: October 5-8:30 a.m.-5:30 p.m.; October 6-8:30 a.m.-4 p.m.

Place: Hubert H. Humphrey Building, Room 800, 200 Independence Avenue, S.W., Washington, DC 20201.

Contact Persons: Michele M. Chang, CMT, MPH, Executive Secretary OR Stephen C. Groft, Pharm. D., Executive Director, 6701 Rockledge Drive, Room 1010, MSC 7707, Bethesda, MD 20817-7707, Phone: (301) 435-7592, Fax: (301) 480-1691, E-mail: WHCCAMP@nih.gov.

Because of the need to obtain the views of the public on these issues as soon as possible and because of the early deadline for the report required of the Commission, this notice is being provided at the earliest possible time.

SUPPLEMENTARY INFORMATION: The President established the White House Commission on Complementary and Alternative Medicine Policy on March 7, 2000 by Executive Order 13147. The mission of the White House Commission on Complementary and Alternative Medicine Policy is to provide a report, through the Secretary of the Department of Health and Human Services, on legislative and administrative recommendations for assuring that public policy maximizes the benefits of complementary and alternative medicine to Americans.

Public Participation

The meeting is open to the public with attendance limited by the availability of space on a first come, first serve basis. Members of the public who wish to present oral comments may register by calling 1-800-953-3298 or by accessing https://safe2.sba.com/whccamp/index.cfm no later than September 29, 2000.

Oral comments will be limited to five minutes. Individuals who register to speak will be assigned in the order in which they registered. Due to time constraints, only one representative from each organization will be allotted time for oral testimony. The number of speakers and the time allotted may also be limited by the number of registrants. All requests to register should include the name, address, telephone number, and business or professional affiliation of the interested party, and should indicate the area of interest or question (as described above) to be addressed.

Any person attending the meeting who has not registered to speak in advance of the meeting will be allowed to make a brief oral statement during the time set aside for public comment if time permits, and at the chairperson's discretion. Individuals unable to attend the meeting, or any interested parties, may send written comments by mail, fax, or electronically to the staff office of the Commission for inclusion in the public record.

When mailing or faxing written comments provide, if possible, an electronic version on diskette. Persons needing special assistance, such as sign language interpretation or other special accommodations, should contact the Commission staff at the address or telephone number listed no later than September 29, 2000.

Dated: September 12, 2000.
LaVerne Y. Stringfield,
Director, Office of Federal Advisory Committe Policy.

[FR Doc. 00-24232 Filed 9-20-00; 8:45 am]

BILLING CODE 4140-01-M